FEDERAL COMMUNICATIONS COMMISSION

Sunshine Act Meeting

March 10, 2000.

The Federal Communications Commission will hold an Open Meeting on the subjects listed below on Friday, March 17, 2000, which is scheduled to commence at 9:30 a.m. in Room TW-C305, at 445 12th Street, SW, Washington, DC.

Item No., Bureau, and Subject

1—Common Carrier and Wireless Tele-communications—Title: Numbering Resource Optimization (CC Docket No. 99-200). Summary: The Commission will consider a Report and Order and Further Notice of Proposed Rule Making concerning strategies for numbering resource optimization.

2—Office of Engineering and Technology—Title: Inquiry Regarding Software Defined Radios. Summary: The Commission will consider a notice of Inquiry concerning issues related to software defined radio technology, including the current state of software defined radio technology, interoperability between radio services, the efficiency of spectrum use, and the equipment approval process.

Additional information concerning this meeting may be obtained from Maureen Peratino or David Fiske, Office of Media Relations, telephone number (202) 418-0500; TTY (202) 418-2555.

Copies of materials adopted at this meeting can be purchased from the FCC's duplicating contractor, International Transcription Services, Inc. (ITS, Inc.) at (202) 857-3800; fax (202) 857-3805 and 857-3184; or TTY (202) 293-8810. These copies are available in paper format and alternative media, including large print/type; digital disk; and audio tape. ITS may be reached by e-mail: its_inc@ix.netcom.com. Their Internet address is http://www.itsi.com.

This meeting can be viewed over George Mason University's Capitol Connection. The Capitol Connection also will carry the meeting live via the Internet. For information on these services call (703) 993-3100. The audio portion of the meeting will be broadcast live on the Internet via the FCC's Internet audio broadcast page at <http:­//www.fcc.gov.realaudio/>. The meeting can also be heard via telephone, for a fee, from National Narrowcast Network, telephone (202) 966-2211 or fax (202) 966-1770. Audio and video tapes of this meeting can be purchased from Infocus, 341 Victory Drive, Herndon, VA 20170, telephone (703) 834-0100; fax number (703) 834-0111.

Federal Communications Commission.
Magalie Roman Salas,
Secretary.

[FR Doc. 00-6871 Filed 3-15-00; 3:18 pm]

BILLING CODE 6712-01-M